DEPARTMENT OF AGRICULTURE

Forest Service

B&B Fire Recovery Project, Deschutes National Forest, Jefferson and Deschutes Counties, Oregon

AGENCY: Forest Service, USDA.

ACTION: Notice of intent to prepare an environmental impact statement.

SUMMARY: The USDA, Forest Service, will prepare an environmental impact statement (EIS) on a proposed action to salvage dead and severely damaged trees, reduce post-harvest/smaller diameter fuels and plant trees on salvage units, and close or obliterate roads to assist in the restoration of the area burned in the Link and B&B Complex Fires on the Sisters Ranger District of the Deschutes National Forest. The wildfires, located about 12 miles northwest of Sisters, Oregon, burned approximately 95,600 acres across mixed ownership. The B&B Fire Recovery Project covers approximately 42, 143 acres of the total fire area of which 97% is on National Forest System Lands. The alternatives will include the proposed action, no action, and additional alternatives that respond to issues generated during the scoping process. The agency will give notice of the full environmental analysis and decision making process so interested and affected people may participate and contribute to the final decision.

DATES: Comments concerning the scope of the analysis must be received by August 20, 2004.

ADDRESSES: Send written comments to District Ranger, c/o Tom Mafera, Sisters Ranger District, P.O. Box 249, Sisters, Oregon 97759.

FOR FURTHER INFORMATION CONTACT: Tom Mafera, Environmental Coordinator, P.O. Box 249, Sisters, Oregon 97759, phone 541-549-7744. E-mail: comments-pacificnorthwest-deschutes-sisters@fs.fed.us.

SUPPLEMENTARY INFORMATION: Purpose and Need. The purpose and need of the B&B Fire Recovery Project includes: (1) The harvest of dead and dying timber before it loses its economic value; (2) reduction of harvest slash and small trees within salvage units to establish fuel conditions that will reduce the potential for future uncharacteristic fire and restore fire as an ecosystem component; (3) reforestation of historically prevalent or common species (where seed sources are lacking) within salvage units to aid in the quicker development of desired large tree structure; (4) provide for public, administrative, and operational safety by removing hazard trees or fuels along open roads and areas of concentrated use; and (5) the reduction of open road densities, particularly within riparian reserves, to help protect and improve watershed conditions, fisheries, and wildlife habitat.

Proposed Action. This action includes the commercial salvage of dead trees within the Metolius Late Successional Reserve (LSR), and dead and dying trees in other land allocations, for a total of approximately 10,000 to 14,000 acres. Salvage logging will be conducted with a variety of logging techniques including ground-based, skyline, and helicopter yarding systems. No new permanent roads will be constructed. Fuels reduction and reforestation are also propose for the units where commercial salvage is proposed. Hazard trees with commercial value will also be salvaged along open roads within the project area. Timber harvest residues and non-merchantable material would be treated by a variety of methods including lopping and scattering, burning in place, piling and burning, or yarding tops to landings for burning. Timber would be offered for sale in the summer of 2005. Areas treated would be located outside of Riparian Reserves with the exception of areas where hazard trees need to be fallen or removed to address public safety. Dead trees (snags) and down wood would be left to meet wildlife objectives for the short and long term. Approximately 80 miles of roads would be either closed or decommissioned.

Scoping. Public participation will be sought at several points during the analysis, including listing of this project in the summer 2004 and subsequent issues of the Central Oregon Schedule of Projects and on the Deschutes National Forest Web site. Also, correspondence with agencies, organizations, tribes, and individuals who have indicated their interest would be conducted.

Issues. Preliminary issues identified include the potential effect of the proposed action on: Soil productivity; water quality and fish habitat; late successional reserves and late and old structure stands; snags and down wood habitat; future fuel loading in relation to the reintroduction of fire or future wildfire intensity, disturbance to cultural resources, the potential for noxious weed expansion, and the safety and use of the area by the public and land managers. A no action alternative will be analyzed in the EIS. Other alternatives would result from the scoping process and refined issues.

Comment: Public comments about this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decisions under 36 CFR parts 215 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

A draft EIS will be filed with the Environmental Protection Agency (EPA) and made available for public review by February 2005. The EPA will publish a Notice of Availability (NOA) of the draft EIS in the Federal Register. The comment period on the draft EIS will be 45 days from the date EPA publishes the notice of availability in the Federal Register. The final EIS is scheduled to be available June 2005.

The Forest Service believes, at this early stage, it is important to give reviewers notice of several court rulings related to public participation in the environmental review process. First, reviewers of a draft EIS must structure their participation in the environmental review of the proposal so that it is meaningful and alerts an agency to the reviewer's position and contentions (Vermont Yankee Nuclear Power Corp. v. NRDC, 435 U.S. 519, 553 (1978)). Also, environmental objections that could be raised at the draft EIS stage but that are not raised until after completion of the final EIS may be waived or dismissed by the courts (City of Angoon v. Hodel, 803 F.2d 1016, 1022 (9th Cir. 1986)) and Wisconsin Heritages, Inc. v. Harris, 490 F. Supp. 1334, 1338 (E.D. Wis. 1980)). Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft EIS. The Forest Service is the lead agency and the responsible official is the Forest Supervisor, Deschutes National Forest. The responsible official will decide where, and whether or not to salvage timber, reduce fuels, and reforest the area. The responsible official will also decide how to mitigate impacts of these actions and will determine when and how monitoring of effects will take place. The B&B Fire Recovery decision and the reasons for the decision will be documented in the record of decision. That decision will be subject to Forest Service Appeal Regulations (36 CFR part 215).

Dated: July 26, 2004.
Michael C. Johnson,
Deputy Forest Supervisor.

[FR Doc. 04-17367 Filed 7-29-04; 8:45 am]

BILLING CODE 3410-11-M